DEPARTMENT OF ENERGY

Federal Energy Regulatory Commission

Combined Notice of Filings

Take notice that the Commission has received the following Natural Gas Pipeline Rate and Refund Report filings:

Filings Instituting Proceedings

Docket Number: PR17-35-000.

Applicants: Hope Gas, Inc.

Description: Tariff filing per 284.123(b)(1)+(g): HGI—Certification of Unchanged State Rate to be effective 3/9/2017; Filing Type: 1260.

Filed Date: 3/9/17.

Accession Number: 201703095198.

Comments Due: 5 p.m. ET 3/30/17.

284.123(g) Protests Due: 5 p.m. ET 5/8/17.

Docket Number: CP17-75-000.

Applicants: American Midstream (Bamagas Intrastate) LLC.

Description: Application for Limited Jurisdiction Blanket Certificate and Request for Expedited Action of American Midstream(Babagas Intrastate), LLC.

Filed Date: 03/10/2017.

Accession Number: 20170310-5223.

Comment Date: 5:00 p.m. Eastern Time on Monday, March 27, 2017.

Docket Number: RP17-524-000.

Applicants: Bear Creek Storage Company, L.L.C.

Description: Bear Creek Storage Company, L.L.C. submits tariff filing per 154.203: Annual Report on Operational Transactions.

Filed Date: 03/09/2017.

Accession Number: 20170309-5020.

Comment Date: 5:00 p.m. Eastern Time on Tuesday, March 21, 2017.

Docket Number: RP17-525-000.

Applicants: Equitrans, L.P.

Description: Equitrans, L.P. submits tariff filing per 154.204: Updated Initial Retainage 4-1-2017 to be effective 4/1/2017.

Filed Date: 03/10/2017.

Accession Number: 20170310-5010.

Comment Date: 5:00 p.m. Eastern Time on Wednesday, March 22, 2017.

Docket Number: RP17-526-000.

Applicants: Equitrans, L.P.

Description: Equitrans, L.P. submits tariff filing per 154.204: Equitrans' Clean-Up Filing—March 2017 to be effective 4/10/2017.

Filed Date: 03/10/2017.

Accession Number: 20170310-5011.

Comment Date: 5:00 p.m. Eastern Time on Wednesday, March 22, 2017.

Docket Number: RP17-527-000.

Applicants: ANR Pipeline Company.

Description: ANR Pipeline Company submits tariff filing per 154.203: Compliance to CP17-25-000 to be effective 2/28/2017.

Filed Date: 03/10/2017.

Accession Number: 20170310-5012.

Comment Date: 5:00 p.m. Eastern Time on Wednesday, March 22, 2017.

Docket Number: RP17-528-000.

Applicants: Equitrans, L.P.

Description: Equitrans, L.P. submits tariff filing per 154.204: Negotiated Rate Service Agreement—Mercuria Energy America, Inc. to be effective 4/1/2017.

Filed Date: 03/10/2017.

Accession Number: 20170310-5013.

Comment Date: 5:00 p.m. Eastern Time on Wednesday, March 22, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2017.
Nathaniel J. Davis, Sr.,
Deputy Secretary.

[FR Doc. 2017-05438 Filed 3-17-17; 8:45 am]

BILLING CODE 6717-01-P